DEPARTMENT OF AGRICULTURE

Food and Nutrition Service

Agency Information Collection: Proposed Collection; Comment Request; FNS-46, Issuance Reconciliation Report

AGENCY: Food and Nutrition Service, USDA.

ACTION: Notice.

SUMMARY: In accordance with the Paperwork Reduction Act of 1995, this notice invites the general public and other public agencies to comment on proposed information collection contained in Form FNS-46, Issuance Reconciliation Report.

DATES: Written comments must be submitted on or before August 6, 2001.

ADDRESSES: Send comments and requests for copies of this information collection to: Jeffrey N. Cohen, Branch Chief, Electronic Benefit Transfer Branch, Benefit Redemption Division, Food and Nutrition Service, U.S. Department of Agriculture, 3101 Park Center Drive, Alexandria, VA 22302.

Pursuant to the Paperwork Reduction Act of 1995 (44 U.S.C. 3507), comments are invited on: (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

FOR FURTHER INFORMATION CONTACT: Jeffrey N. Cohen, (703) 305-2523.

SUPPLEMENTARY INFORMATION: Title: Issuance Reconciliation Report.

OMB Number: 0584-0080.

Form Number: FNS-46.

Expiration Date: 07/31/2001.

Type of Request: Revision of a currently approved collection.

Abstract: Section 7(d) of the Food Stamp Act of 1977, as amended, requires the Secretary to require State agencies to report on their issuance operations not less than monthly. (7 U.S.C. 2016(d)) Section 11(a) of the Act requires State agencies to assume responsibility for the issuance, control and accountability of benefits. (7 U.S.C. 2020(a)) Regulations at 7 CFR 274.4(a) and 274.4(b)(2) require State agencies to account for all issuance through the reconciliation process and submit a report on such issuance using Form FNS-46, Issuance Reconciliation Report. These reports must be submitted to the Food and Nutrition Service monthly and must reach FNS no later than 90 days following the end of each report month. The FNS-46 report reflects the total issuance, returns, and unauthorized issuance amounts resulting in the net Federal obligation.

Affected Public: State and local government employees or contractors.

Estimated Number of Respondents: 238.

Estimated Number of Responses per respondent: 12.

Estimated Time per Response: 8 hours.

Estimated Total Annual Burden: 22,848 hours annually.

Dated: May 31, 2001.
George A. Braley,
Acting Administrator.

[FR Doc. 01-14259 Filed 6-5-01; 8:45 am]

BILLING CODE 3410-30-U